DEPARTMENT OF DEFENSE

Department of the Army

Advisory Committee on Arlington National Cemetery Explore, Remember, and Honor Subcommittee Meeting Notice

AGENCY: Department of the Army, DoD.

ACTION: Notice; date correction.

SUMMARY: The notice of open meeting notices for the Explore, Remember and Honor subcommittees published in the Federal Register on May 20, 2015 (80 FR 28978 & 28979) has changed the date of the meetings. They will now be held on June 24, 2015 at the same times and locations.

FOR FURTHER INFORMATION CONTACT: Ms. Brenda K. Curfman; Alternate Designated Federal Officer for the committee and the Explore, Remember and Honor Subcommittees, in writing at Arlington National Cemetery, Arlington VA 22211, or by email at brenda.k.curfman.civ@mail.mil, or by phone at 703-614-0998.

Brenda S. Bowen,
Army Federal Register Liaison Officer.

[FR Doc. 2015-13476 Filed 6-3-15; 8:45 am]

BILLING CODE 3710-08-P